DEPARTMENT OF LABOR

Office of the Secretary

Submission for OMB Review; Comment Request

March 17, 2004.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor (DOL). To obtain documentation, contact Ira Mills on 202-693-4122 (this is not a toll-free number) or E-Mail: mills.ira@dol.gov.

Comments should be sent to Office of Information and Regulatory Affairs, Attn: OMB Desk Officer for DOL, Office of Management and Budget, Room 10235, Washington, DC 20503 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension of a currently approved collection.

Title: Domestic Agriculture In-Season Wage Report.

OMB Number: 1205-0017.

Frequency: Annually.

Affected Public: Individuals or households; State, local or tribal government; Federal government.

Number of Respondents: 38,805.

Number of Annual Responses: 38,805.

Form No. | Affected public | Respondents | Frequency | Average time: Per response | Average time: Total hours
ETA 232 | States | 600 | Once | 11 hours | 6,600
ETA 232A | Employers | 38,805 | Once | 15 min. | 9,701

Burden Hours Total: 16,301.

Total annualized capital/startup costs: $0.

Total annual costs (operating/maintaining systems or purchasing services): $0.

Description: State employment agencies need prevailing wage rates in order to process employers' applications for intrastate and interstate and H-2A foreign workers. The wage rate cover agriculture and logging jobs. Domestic Migrant and local seasonal as well as foreign H-2A farmworkers are hired for these jobs.

Ira L. Mills,
Departmental Clearance Officer.

[FR Doc. 04-6784 Filed 3-25-04; 8:45 am]

BILLING CODE 4510-30-P